DEPARTMENT OF ENERGY

Federal Energy Regulatory Commission

Combined Notice of Filings #1

Take notice that the Commission received the following electric corporate filings:

Docket Numbers: EC11-55-000

Applicants: DIRECT ENERGY SERVICES LLC, Gateway Energy Services Corporation, Direct Energy (GW), Inc.

Description: Gateway Energy Services Corporation, et al. Joint Application For Authorization of Transaction Under section 203 of the Federal Power Act, and Request for Expedited Consideration.

Filed Date: 03/25/2011

Accession Number: 20110325-5156

Comment Date: 5 p.m. Eastern Time on Friday, April 15, 2011

Take notice that the Commission received the following exempt wholesale generator filings:

Docket Numbers: EG11-71-000

Applicants: Summit Texas Clean Energy, LLC

Description: Self-Certification of EWG Status of Summit Texas Clean Energy, LLC.

Filed Date: 03/24/2011

Accession Number: 20110324-5027

Comment Date: 5 p.m. Eastern Time on Thursday, April 14, 2011

Docket Numbers: EG11-72-000

Applicants: White Stallion Energy Center, LLC

Description: Self-Certification of EG or FC of White Stallion Energy Center, LLC.

Filed Date: 03/25/2011

Accession Number: 20110325-5109

Comment Date: 5 p.m. Eastern Time on Friday, April 15, 2011

Take notice that the Commission received the following electric rate filings:

Docket Numbers: ER07-1195-001

Applicants: Mittal Steel USA, Inc.

Description: Amendment to Notice of Non-Material Changes in Status, ArcelorMittal USA Inc.

Filed Date: 03/25/2011

Accession Number: 20110325-5092

Comment Date: 5 p.m. Eastern Time on Friday, April 15, 2011

Docket Numbers: ER07-1195-001

Applicants: Mittal Steel USA, Inc.

Description: Supplement to Motion for Determination of Category 1 Seller Status of ArcelorMittal USA Inc.

Filed Date: 03/25/2011

Accession Number: 20110325-5093

Comment Date: 5 p.m. Eastern Time on Friday, April 15, 2011

Docket Numbers: ER11-2517-002

Applicants: South Carolina Electric & Gas Company

Description: South Carolina Electric & Gas Company submits tariff filing per 35: Attachment C Refile—Compliance filing to be effective 3/25/2011.

Filed Date: 03/25/2011

Accession Number: 20110325-5118

Comment Date: 5 p.m. Eastern Time on Friday, April 15, 2011

Docket Numbers: ER11-2688-001

Applicants: PSEG Energy Resources & Trade LLC

Description: PSEG Energy Resources & Trade LLC submits tariff filing per 35.17(b): Additional Information in Response to February 22, 2011 Letter Order to be effective 3/11/2011

Filed Date: 03/25/2011

Accession Number: 20110325-5049

Comment Date: 5 p.m. Eastern Time on Friday, April 15, 2011

Docket Numbers: ER11-2997-001

Applicants: Vectren Retail, LLC

Description: Vectren Retail, LLC submits tariff filing per 35: Vectren Retail d/b/a Vectren Source, Supplement to Initial MBR Application to be effective 4/29/2011.

Filed Date: 03/25/2011

Accession Number: 20110325-5085

Comment Date: 5 p.m. Eastern Time on Friday, April 15, 2011

Docket Numbers: ER11-3149-001

Applicants: California Independent System Operator Corporation

Description: California Independent System Operator Corporation submits tariff filing per 35.17(b): 2011-03-25 CAISO Errata to March 18, 2011 Tariff Amendment to be effective 3/22/2011.

Filed Date: 03/25/2011

Accession Number: 20110325-5128

Comment Date: 5 p.m. Eastern Time on Monday, April 04, 2011

Docket Numbers: ER11-3185-000

Applicants: Pacific Gas and Electric Company

Description: Pacific Gas and Electric Company submits tariff filing per 35.13(a)(2)(iii): Huron Solar Station WDT)SGIA to be effective 3/24/2011.

Filed Date: 03/24/2011

Accession Number: 20110324-5003

Comment Date: 5 p.m. Eastern Time on Thursday, April 14, 2011

Docket Numbers: ER11-3186-000

Applicants: Southern California Telephone Company

Description: Southern California Telephone Company submits tariff filing per 35.12: Application for Market-Based Rate Authority to be effective 5/23/2011.

Filed Date: 03/24/2011

Accession Number: 20110324-5036

Comment Date: 5 p.m. Eastern Time on Thursday, April 14, 2011

Docket Numbers: ER11-3187-000

Applicants: SBR Energy, LLC

Description: SBR Energy, LLC submits tariff filing per 35.12: Baseline New Tariff Filing to be effective 5/1/2011.

Filed Date: 03/24/2011

Accession Number: 20110324-5046

Comment Date: 5 p.m. Eastern Time on Thursday, April 14, 2011

Docket Numbers: ER11-3188-000

Applicants: Stream Energy Maryland, LLC

Description: Stream Energy Maryland, LLC submits tariff filing per 35.12: Market-Based Rate Application for Stream Energy Maryland, LLC to be effective 3/24/2011.

Filed Date: 03/24/2011

Accession Number: 20110324-5050

Comment Date: 5 p.m. Eastern Time on Thursday, April 14, 2011

Docket Numbers: ER11-3189-000

Applicants: Midwest Independent Transmission System Operator, Inc.

Description: Midwest Independent Transmission System Operator, Inc. submits tariff filing per 35.13(a)(2)(iii): Midwest ISO-SPP JOA to be effective 3/25/2011.

Filed Date: 03/24/2011

Accession Number: 20110324-5061

Comment Date: 5 p.m. Eastern Time on Thursday, April 14, 2011

Docket Numbers: ER11-3190-000

Applicants: Southwest Power Pool, Inc.

Description: Southwest Power Pool, Inc. submits tariff filing per 35.1: Filing of Tariff Record and Certificate of Concurrence for Midwest ISO-SPP JOA to be effective 3/25/2011.

Filed Date: 03/24/2011

Accession Number: 20110324-5079

Comment Date: 5 p.m. Eastern Time on Thursday, April 14, 2011

Docket Numbers: ER11-3191-000

Applicants: SJH Energy, LLC

Description: SJH Energy, LLC submits tariff filing per 35.1: SJH Energy FERC Electric Tariff to be effective 3/24/2011.

Filed Date: 03/24/2011

Accession Number: 20110324-5127

Comment Date: 5 p.m. Eastern Time on Thursday, April 14, 2011

Docket Numbers: ER11-3192-000

Applicants: The Dayton Power and Light Company

Description: The Dayton Power and Light Company submits tariff filing per 35.37: FERC Electric Tariff, Volume No. 10 to be effective 3/26/2011.

Filed Date: 03/25/2011

Accession Number: 20110325-5027

Comment Date: 5 p.m. Eastern Time on Friday, April 15, 2011

Docket Numbers: ER11-3193-000

Applicants: The Dayton Power and Light Company

Description: The Dayton Power and Light Company submits tariff filing per 35.37: FERC Electric Tariff, Volume No. 6 to be effective 3/26/2011.

Filed Date: 03/25/2011

Accession Number: 20110325-5046

Comment Date: 5 p.m. Eastern Time on Friday, April 15, 2011

Docket Numbers: ER11-3194-000

Applicants: DPL Energy, LLC.

Description: DPL Energy, LLC. submits tariff filing per 35.37: FERC Rate Schedule No. 1 to be effective 3/26/2011.

Filed Date: 03/25/2011

Accession Number: 20110325-5058

Comment Date: 5 p.m. Eastern Time on Friday, April 15, 2011

Docket Numbers: ER11-3195-000

Applicants: New Hampshire Industries, Inc.

Description: New Hampshire Industries, Inc. submits tariff filing per 35.1: New Hampshire Industries FERC Electric Tariff to be effective 3/25/2011.

Filed Date: 03/25/2011

Accession Number: 20110325-5059

Comment Date: 5 p.m. Eastern Time on Friday, April 15, 2011

Docket Numbers: ER11-3196-000

Applicants: PJM Interconnection, L.L.C.

Description: PJM Interconnection, L.L.C. submits tariff filing per 35.13(a)(2)(iii): Original Service Agreement Nos. 2795 and 2796 to be effective 2/24/2011.

Filed Date: 03/25/2011

Accession Number: 20110325-5061

Comment Date: 5 p.m. Eastern Time on Friday, April 15, 2011

Docket Numbers: ER11-3197-000

Applicants: Luminescent Systems, Inc.

Description: Luminescent Systems, Inc. submits tariff filing per 35.1: Luminescent Systems FERC Electric Tariff to be effective 3/25/2011.

Filed Date: 03/25/2011

Accession Number: 20110325-5099

Comment Date: 5 p.m. Eastern Time on Friday, April 15, 2011

Docket Numbers: ER11-3198-000

Applicants: Southern California Edison Company

Description: Southern California Edison Company submits tariff filing per 35.13(a)(2)(iii): Addition of 4 transmission projects to CWIP Rate Making Mechanism to be effective 4/1/2011.

Filed Date: 03/25/2011

Accession Number: 20110325-5129

Comment Date: 5 p.m. Eastern Time on Friday, April 15, 2011

Docket Numbers: ER11-3199-000

Applicants: PalletOne Energy, LLC

Description: PalletOne Energy, LLC submits tariff filing per 35.1: PalletOne Energy FERC Electric Tariff to be effective 3/25/2011.

Filed Date: 03/25/2011

Accession Number: 20110325-5146

Comment Date: 5 p.m. Eastern Time on Friday, April 15, 2011

Take notice that the Commission received the following foreign utility company status filings:

Docket Numbers: FC11-5-000

Applicants: Ghost Pine Windfarm, LP

Description: Ghost Pine Windfarm, LP Notification of Self-Certification of Foreign Utility Company Status.

Filed Date: 03/25/2011

Accession Number: 20110325-5091

Comment Date: 5 p.m. Eastern Time on Friday, April 15, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 29, 2011.
Nathaniel J. Davis, Sr.,
Deputy Secretary.

[FR Doc. 2011-7852 Filed 4-1-11; 8:45 am]

BILLING CODE 6717-01-P